DEPARTMENT OF COMMERCE

National Oceanic and Atmospheric Administration

0648-XN58

Advisory Committee to the U.S. Section to the International Commission for the Conservation of Atlantic Tunas (ICCAT); Spring Species Working Group Meeting

AGENCY: National Marine Fisheries Service (NMFS), National Oceanic and Atmospheric Administration (NOAA), Commerce.

ACTION: Notice of advisory committee meeting.

SUMMARY: The Advisory Committee (Committee) to the U.S. Section to the International Commission for the Conservation of Atlantic Tunas (ICCAT) announces its spring meeting with its Species Working Group Technical Advisors on April 5-7, 2009. The Committee will meet to discuss matters relating to ICCAT, including the 2008 Commission meeting results; research and management activities; global and domestic initiatives related to ICCAT; the Atlantic Tunas Convention Act-required consultation on the identification of countries that are diminishing the effectiveness of ICCAT; the results of the meetings of the Committee's Species Working Groups; and other matters relating to the international management of ICCAT species.

DATES: The open sessions of the Committee meeting will be held on April 5, 2009, from 5 p.m. to 7 p.m., April 6, 2009, from 8:30 a.m. to 2:45 p.m., and April 7, 2009, from 9 a.m. to 9:15 a.m. as well as 11 a.m. to 3:30 p.m. Closed sessions will be held on April 6, 2009, from 2:45 p.m. to approximately 6 p.m. and on April 7, 2009, from 9:15 a.m. to 11 a.m.

ADDRESSES: The meeting will be held at the Crowne Plaza, 8777 Georgia Avenue, Silver Spring, MD 20910. The phone number is 301-589-5200.

FOR FURTHER INFORMATION CONTACT: Melanie King at (301) 713-2276.

SUPPLEMENTARY INFORMATION: The Advisory Committee to the U.S. Section to ICCAT will meet in open session to receive and discuss information on (1) the 2008 ICCAT meeting results and U.S. implementation of ICCAT decisions; (2) 2008 ICCAT and NMFS research and monitoring activities; (3) 2009 ICCAT activities; (4) global and domestic initiatives related to ICCAT (5) the Atlantic Tunas Convention Act-required consultation on the identification of countries that are diminishing the effectiveness of ICCAT; (6) the results of the meetings of the Committee's Species Working Groups; and (7) other matters relating to the international management of ICCAT species. The public will have access to the open sessions of the meeting, but there will be no opportunity for public comment.

The Committee will meet in its Species Working Groups for a portion of the afternoon of April 6, 2009, and of the morning of April 7, 2009. These sessions are not open to the public, but the results of the species working group discussions will be reported to the full Advisory Committee during the Committee's morning and afternoon open session on April 7, 2009. The Committee may also go into executive session on the afternoon of April 6, 2009, to discuss sensitive information relating to an upcoming intersessional meeting of ICCAT. This session would also be closed to the public.

Special Accommodations

The meeting location is physically accessible to people with disabilities. Requests for sign language interpretation or other auxiliary aids should be directed to Melanie King at (301) 713-2276 at least 5 days prior to the meeting date.

Dated: February 25, 2009.
Rebecca J. Lent,
Director, Office of International Affairs, National Marine Fisheries Service.

[FR Doc. E9-4483 Filed 3-2-09; 8:45 am]

BILLING CODE 3510-22-S